DEPARTMENT OF THE TREASURY

Submission for OMB Review; Comment Request

November 20, 2008.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before December 26, 2008 to be assured of consideration.

Internal Revenue Service (IRS)

OMB Number: 1545-1004.

Type of Review: Revision.

Title: U.S. Income Tax Return for Real Estate Investment Trusts.

Description: Form 1120-REIT is filed by a corporation, trust, or association electing to be taxed as a REIT in order to report its income, and deductions, and to compute its tax liability. IRS uses Form 1120-REIT to determine whether the REIT has correctly reported its income, deductions, and tax liability.

Respondents: Private sector.

Estimated Total Burden Hours: 142,203 hours.

OMB Number: 1545-1517.

Type of Review: Extension.

Title: Distributions From an Archer MSA or Medicare+Choice MSA.

Form: 1099-SA.

Description: This form is used to report distributions from a medical savings account as set forth in section 220(h).

Respondents: Private sector.

Estimated Total Burden Hours: 3,618 hours.

OMB Number: 1545-0126.

Type of Review: Extension.

Title: U.S. Income Tax Return of a Foreign Corporation.

Form: 1120-F.

Description: Form 1120-F is used by foreign corporations that have investments, or a business, or a branch in the U.S. The IRS uses Form 1120-F to determine if the foreign corporation has correctly reported its income, deductions, and tax, and to determine if it has paid the correct amount of tax.

Respondents: Private sector.

Estimated Total Burden Hours: 7,622,314 hours.

OMB Number: 1545-0941.

Type of Review: Extension.

Title: Report of a Sale or Exchange of Certain Partnership Interests.

Form: 8308.

Description: Form 8308 is an information return that gives the IRS the names of the parties involved in a section 751(a) exchange of a partnership interest. It is also used by the partnership as a statement to the transferor or transferee. It alerts the transferor that a portion of the gain on the sale of partnership interest may be ordinary income.

Respondents: Private sector.

Estimated Total Burden Hours: 1,460,000 hours.

Clearance Officer: Glenn P. Kirkland (202) 622-3428, Internal Revenue Service, Room 6516, 1111 Constitution Avenue, NW., Washington, DC 20224.

OMB Reviewer: Nicholas A. Fraser (202) 395-5887, Office of Management and Budget, Room 10235, New Executive Office Building, Washington, DC 20503.

Robert Dahl,
Treasury PRA Clearance Officer.

[FR Doc. E8-28081 Filed 11-25-08; 8:45 am]

BILLING CODE 4810-35-P